DEPARTMENT OF THE INTERIOR

Bureau of Land Management

[BLM_CA_FRN_MO4500174576]

Notice of Temporary Annual Closure of Public Lands for the California 300 Off-Road Race, San Bernardino County, CA

AGENCY: Bureau of Land Management, Interior.

ACTION: Notice of temporary closure.

SUMMARY: As authorized under the provisions of the Federal Land Policy and Management Act of 1976, as amended, the Bureau of Land Management (BLM) is giving notice that certain public lands located near Barstow, California, within the Stoddard Valley Off-Highway Vehicle Recreation Area will be temporarily closed to all public use to enhance public safety during Mad Media Productions' annual California 300 off-road race authorized under a Special Recreation Permit (SRP).

DATES: This action is in effect for a 5-day period in October each year from 2024 to 2028 for the California 300 off-road race. The dates for the California 300 off-road race and the temporary closure, as well as a map of the closure area, will be posted at the California Desert District Office, the Barstow Field Office, and on the BLM website at the addresses provided below at least 30 days prior to the event each year.

ADDRESSES: California Desert District, 1201 Bird Springs Drive, Palm Springs, CA 92262; Barstow Field Office, 2601 Barstow Road, Barstow, CA 92311, BLM website: www.blm.gov/california.

FOR FURTHER INFORMATION CONTACT: Marc Stamer, Barstow Field Manager, California Desert District, 2601 Barstow Road, Barstow, CA, telephone: 760-252-6000, email: mstamer@blm.gov or Caleb Scruggs, Outdoor Recreation Planner, telephone: 760-252-6042, email: cscruggs@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This closure applies to all public use, including pedestrian use and vehicles. The BLM will post the temporary closure notice and map of the closure area at the main entry points into the Stoddard Valley Off-Highway Vehicle Recreation Area, at the California Desert District Office, at the Barstow Field Office, and on the BLM website at https://www.blm.gov/california. Stoddard Valley OHV area was designated in the Dingell Act, per map in PL 116-9. The annual temporary closure will comply with the management plan for the area.

Exclusive Use: The closure area will be for exclusive use of California 300 off-road race participants, registered spectators for the California 300 off-road race, and other authorized users with an authorized SRP valid for activities within the closure area. For the closure area, anyone without an SRP authorizing use within the closure area during the closure period is prohibited from using the area.

Exceptions: Temporary closure restrictions do not apply to federal, state, and local officers and employees in the performance of official duties; members of organized rescue or fire-fighting forces in the performance of official duties; persons with written authorization from the Bureau of Land Management; California 300 off-road race officials and race participants; vendors with a valid BLM SRP; and registered event spectators.

Enforcement: Any person who violates the temporary closure order may be tried before a United States Magistrate and fined in accordance with 18 U.S.C. 3571, imprisoned for no more than 12 months under 43 U.S.C. 1733(a) and 43 CFR 8360.0-7, or both. In accordance with 43 CFR 8365.1-7, State or local officials may also impose penalties for violations of California law.

(Authority: 43 CFR 8364.1)

Michelle Lynch,
BLM California Desert District Manager.

[FR Doc. 2024-19194 Filed 8-26-24; 8:45 am]

BILLING CODE 4331-15-P